DEPARTMENT OF ENERGY

Federal Energy Regulatory Commission

[Project No. 13573-000]

City of Hamilton; Notice of Competing Preliminary Permit Application Accepted for Filing and Soliciting Comments and Motions To Intervene

September 25, 2009.

On August 31, 2009, the City of Hamilton, Ohio, filed an application for a preliminary permit, pursuant to section 4(f) of the Federal Power Act, proposing to study the feasibility of the Greenup Hydrokinetic Project, located immediately downstream from the Greenup Lock and Dam on the Ohio River, in Scioto County, Ohio. The sole purpose of a preliminary permit, if issued, is to grant the permit holder priority to file a license application during the permit term. A preliminary permit does not authorize the permit holder to perform any land disturbing activities or otherwise enter upon lands or waters owned by others without the owners' express permission.

The proposed project would consist of: (1) A 100 to 300-foot-long by 20 to 50-foot-wide barge anchored to the riverbed; (2) 10 6 to 8-foot-diameter by 20-foot-long turbine-generators attached to the barge; (3) high-voltage cables transmitting the generated power to the existing transmission line located near the Project; and (4) appurtenant facilities. The proposed project would generate about 1,533 megawatt-hours.

Applicant Contact: Michael Perry, Director of Electric, City of Hamilton, 345 High Street, Hamilton, Ohio 45011; phone: (513) 785-7229 or by e-mail at: perrym@ci.hamilton.oh.us.

FERC Contact: Sergiu Serban, 202-502-6211.

Competing Application: This application competes with the application for proposed Project No. 13451-000 filed on April 29, 2009.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project, including a copy of the application, can be viewed or printed on the “eLibrary” link of Commission's Web site at http://www.ferc.gov/docs-filing/elibrary.asp. Enter the docket number (P-13573) in the docket number field to access the document. For assistance, call toll-free 1-866-208-3372.

Kimberly D. Bose,
Secretary.

[FR Doc. E9-23861 Filed 10-2-09; 8:45 am]

BILLING CODE 6717-01-P